DEPARTMENT OF HEALTH AND HUMAN SERVICES

Centers for Medicare & Medicaid Services

[Document Identifier CMS-10430]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Reinstatement of a previously approved collection; Title: Information Collection Requirements for Compliance with Individual and Group Market Reforms under Title XXVII of the Public Health Service Act; Use: The provisions of title XXVII of the Public Health Service Act (PHS Act) are designed to make it easier for people to get access to health care coverage and to reduce the limitations that can be put on the coverage. Sections 2723 and 2761 of the PHS Act direct CMS to enforce a provision (or provisions) of title XXVII of the PHS Act with respect to health insurance issuers when a state has notified CMS that it has not enacted legislation to enforce or that it is not otherwise enforcing a provision (or provisions) of the individual and group market reforms with respect to health insurance issuers, or when CMS has determined that a state is not substantially enforcing one or more of those provisions. This collection also pertains to notices issued by individual and group health insurance issuers and self-funded non-Federal governmental plans. This collection includes the issuance of certificates of creditable coverage; notification of preexisting condition exclusions; notification of special enrollment rights; and review of issuers' filings of individual and group market products or similar Federal review in cases in which a state is not enforcing a title XXVII individual or group market provision. This information collection is a reinstatement of a previously approved collection (which expired on September 30, 2012 (OMB#: 0938-0702 and OMB#: 0938-0703)) with minimal changes to reflect laws passed since the previous collection document was approved. While the OMB control number for this proposed collection will remain the same as the previously approved collection, this proposed collection will be given a new CMS Form Number. Form Number: CMS-10430 (OMB#: 0938-0702); Frequency: Annually; Occasionally; Affected Public: Private Sector; Business or other for-profits and Not-for-profit institutions, and State, Local, or Tribal Governments; Number of Respondents: 8,716; Total Annual Responses: 39,831,442; Total Annual Hours: 3,760,422 hours. (For policy questions regarding this collection contact Lisa Campbell at 301-492-4114. For all other issues call 410-786-1326.)

To obtain copies of the supporting statement and any related forms for the proposed paperwork collections referenced above, access CMS' Web site at http://www.cms.hhs.gov/PaperworkReductionActof1995, or email your request, including your address, phone number, OMB number, and CMS document identifier, to Paperwork@cms.hhs.gov, or call the Reports Clearance Office at 410-786-1326.

In commenting on the proposed information collections please reference the document identifier or OMB control number. To be assured consideration, comments and recommendations must be submitted in one of the following ways by January 22, 2013:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: CMS-10430/OMB Control Number, Room C4-26-05, 7500 Security Boulevard, Baltimore, Maryland 21244-1850.

Dated: November 16, 2012.
Martique Jones,
Director, Regulations Development Group, Division B, Office of Strategic Operations and Regulatory Affairs.

[FR Doc. 2012-28380 Filed 11-20-12; 8:45 am]

BILLING CODE 4120-01-P